DEPARTMENT OF THE TREASURY

Internal Revenue Service

26 CFR Part 1

[TD 9088]

RIN 1545-BA57

Compensatory Stock Options Under Section 482; Correction

AGENCY: Internal Revenue Service (IRS), Treasury.

ACTION: Correction to final regulations.

SUMMARY: This document contains a correction to TD 9088, which was published in the Federal Register on August 26, 2003 (68 FR 51171) that provide guidance regarding the application of the rules of section 482 governing qualified cost sharing arrangements.

EFFECTIVE DATE: This correction is effective August 26, 2003.

FOR FURTHER INFORMATION CONTACT: Douglas Giblen (202) 435-5265 (not a toll-free number).

SUPPLEMENTARY INFORMATION:

Background

The final regulations that are the subject of this correction are under section 482 of the Internal Revenue Code.

Need for Correction

As published, the final regulations (TD 9088) contain an error which may prove to be misleading and is in need of clarification.

Correction of Publication

Accordingly, the publication of final regulations (TD 9088), which are the subject of FR Doc. 03-21355, is corrected as follows:

§ 1.482-7 [Corrected]

On page 51179, column 1, § 1.482-7 (d)(2)(iii)(C), line 9 from the bottom of the paragraph, the language “paragraph (d)(2)(iii)(B)(2) of this section,” is corrected to read “paragraph (d)(2)(iii)(B)(4) of this section,”.

Cynthia E. Grigsby,
Acting Chief, Publications and Regulations Branch, Legal Processing Division, Associate Chief Counsel (Procedures and Administration).

[FR Doc. 04-6467 Filed 3-22-04; 8:45 am]

BILLING CODE 4830-01-P